SECURITIES AND EXCHANGE COMMISSION

[File No. 500-1]

Aimsi Technologies, Inc.; Order of Suspension of Trading

December 15, 2004.

It appears to the Securities and Exchange Commission that there is a lack of current and accurate information concerning the securities of Aimsi Technologies, Inc. (“AIMT”) because of questions regarding the accuracy of statements made by AIMT to the public in press releases and in fax tout sheets concerning, among other things, Aimsi's contract with China Global Distribution Corp. for the distribution of Aimsi's Automatic Large Area Remote Mapper.

The Commission is of the opinion that the public interest and the protection of investors require a suspension of trading in the securities of the above-listed company.

Therefore, it is ordered, pursuant to Section 12(k) of the Securities Exchange Act of 1934, that trading in the above-listed company is suspended for the period from 9:30 a.m. EST, on December 15, 2004 through 11:59 p.m. EST, on December 29, 2004.

By the Commission.
Margaret H. McFarland,
Deputy Secretary.

[FR Doc. 04-27767 Filed 12-15-04; 1:39 pm]

BILLING CODE 8010-01-P